DEPARTMENT OF ENERGY

Office of Fossil Energy

[FE Docket Nos. 01-47-LNG, 01-53-NG, 01-45-NG, 01-49-NG, 01-52-NG, 01-50-NG, 01-55-NG, 01-57-NG, 01-54-LNG, 01-58-NG, 01-56-NG, 01-66-NG, 01-59-NG, 01-63-NG, 01-62-NG, 99-22-NG, 01-67-NG, 01-69-NG, 01-65-NG, 01-61-NG, 01-64-NG, 01-68-NG, 01-60-NG, 01-72-NG]

Orders Granting, Amending, and Vacating Authority To Import And Export Natural Gas, Including Liquefied Natural Gas, BG Lng Services, Inc., Northeast Gas Markets LLC, Pacific Gas and Electric Company, Avista Energy, Inc., Boundary Gas, Inc., Rochester Gas and Electric Company, American Crystal Sugar Company, Dynegy Marketing and Trade, Small Ventures U.S.A., L.L.C., PanCanadian Energy Services, Inc., NSTAR Gas Company, Masspower, Enbridge Gas Services (U.S.) Inc., PG&E Energy Trading, Canada Corporation, BP Energy Company, Cascade Natural Gas Corporation, Tenaska Marketing Ventures, DEK Energy Company, Pittsfield Generating Company, L.P., Nova Scotia Power Inc., CEG Energy Options Inc., Sierra Pacific Power Company, Cinergy Marketing & Trading, LLC, Vermont Gas Systems, Inc.

AGENCY: Office of Fossil Energy, DOE.

ACTION: Notice of orders.

SUMMARY: The Office of Fossil Energy (FE) of the Department of Energy gives notice that during October 2001, it issued Orders granting, amending, and vacating authority to import and export natural gas, including liquefied natural gas. These Orders are summarized in the attached appendix and may be found on the FE Web site at http://www.fe.doe.gov (select gas regulation), or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on November 13, 2001.
Thomas W. Dukes,
Acting Manager, Natural Gas Regulation, Office of Natural Gas & Petroleum, Import & Export Activities, Office of Fossil Energy.

[FR Doc. 01-28825 Filed 11-16-01; 8:45 am]

BILLING CODE 6450-01-C